SOCIAL SECURITY ADMINISTRATION

Agency Information Collection Activities: Emergency Clearance Request

The Social Security Administration (SSA) publishes a list of information collection packages requiring clearance by the Office of Management and Budget (OMB) in compliance with Public Law (Pub. L.) 104-13, the Paperwork Reduction Act of 1995, effective October 1, 1995. This notice includes a revision to an existing OMB-approved collection.

SSA is soliciting comments on the accuracy of the agency's burden estimate; the need for the information; its practical utility; ways to enhance its quality, utility, and clarity; and ways to minimize burden on respondents, including the use of automated collection techniques or other forms of information technology. Mail, e-mail, or fax your comments and recommendations on the information collection to the OMB Desk Officer and SSA Reports Clearance Officer to the following addresses or fax numbers.

(OMB), Office of Management and Budget, Attn: Desk Officer for SSA, Fax: 202-395-6974, E-mail address: OIRA_Submission@omb.eop.gov.

(SSA), Social Security Administration, DCBFM, Attn: Reports Clearance Officer, 1333 Annex Building, 6401 Security Blvd., Baltimore, MD 21235, Fax: 410-965-6400, E-mail address: OPLM.RCO@ssa.gov.

SSA submitted the information collection below to OMB for Emergency Clearance. SSA is requesting Emergency Clearance from OMB no later than July 6, 2010. Individuals can obtain copies of the collection instrument by calling the SSA Reports Clearance Officer at 410-965-8783 or by writing to the above e-mail address.

Medicare Part B Income-Related Premium—Life-Changing Event Form—0960-0735. Per the Medicare Modernization Act of 2003, selected recipients of Medicare Part B insurance pay an income-related monthly adjustment amount (IRMAA). The Internal Revenue Service (IRS) transmits income tax return data to SSA in order for SSA to determine the amount of IRMAA. SSA uses Form SSA-44 to determine if a recipient qualifies for a reduction in IRMMA. If affected Medicare Part B recipients believe SSA should use more recent tax data because a life-changing event occurred that significantly reduces their income, they can report these changes to SSA and ask for a new initial determination of their IRMAA.

In this Information Collection Request, we are clearing minor changes to this form needed to fulfill the provisions of soon-to-be-published interim final regulations. Since the provisions of these regulations will be effective on publication, we are seeking emergency clearance for this form. The respondents are Medicare Part B recipients who have a modified adjusted gross income over a high-income “threshold.”

Type of Request: Revision of an OMB-approved information collection.

Method of information collection | Number of respondents | Frequency of response | Average burden per response (minutes) | Estimated annual burden (hours)
Personal Interview | 139,000 | 1 | 30 | 69,500
Form | 37,000 | 1 | 45 | 27,750
Totals | 176,000 |  |  | 97,250

Faye Lipsky,
Reports Clearance Officer, Center for Reports Clearance, Social Security Administration.

[FR Doc. 2010-15689 Filed 6-28-10; 8:45 am]

BILLING CODE 4191-02-P